DEPARTMENT OF COMMERCE

National Oceanic and Atmospheric Administration

RIN 0648-XE173

Notice of Availability of Community-Based Restoration Program Guidelines

AGENCY: National Marine Fisheries Service (NMFS), National Oceanic and Atmospheric Administration (NOAA), Commerce.

ACTION: Notice of availability of Community-based Restoration Program Guidelines; request for comments.

SUMMARY: NOAA's National Marine Fisheries Service (NMFS) is seeking comment on revised guidelines for the Community-based Restoration Program (Program). Since guidelines were first issued in 2000, the Program has not only evolved alongside the field of habitat restoration but has been designed to more effectively support sustainable fisheries and contribute to the recovery and conservation of protected resources. These goals are aligned with NMFS' core mandates, the Magnuson-Stevens Fishery Conservation and Management Act and Endangered Species Act. The Program has built a strong foundation of technical and financial assistance capabilities that enables NOAA to proactively identify and develop priority habitat restoration projects, build community-based partnerships to leverage resources, and implement technically sound restoration actions that have maximum impact on coastal and marine species and the ecosystems on which they depend. This document replaces previous guidelines and describes the Program's goals and scope of implementation for FY 2016 and beyond. This is not a solicitation of project proposals.

DATES: Comments are due October 19, 2015.

ADDRESSES: Additional information about the Program is available at: http://www.habitat.noaa.gov/restoration/programs/crp.html. Interested parties that wish to send comments may send an email to tisa.shostik@noaa.gov. Interested parties that wish to send comments through regular mail may use the following mailing address: NOAA Restoration Center (F/HC3), ATTN: CRP Guidelines, 1315 East West Highway, RM 14853, Silver Spring, MD 20910.

FOR FURTHER INFORMATION CONTACT: Tisa Shostik at tisa.shostik@noaa.gov.

SUPPLEMENTARY INFORMATION:

Background

NMFS started the Community-based Restoration Program (Program) in 1996 to provide technical and financial assistance to support the implementation of community-driven habitat restoration. The Program collaborates with partners to restore coastal wetlands, coral reef, shellfish, estuarine, and riverine habitat to benefit coastal and marine species under NMFS jurisdiction. Restoration implemented under the Program include projects such as dam removal and fish passage projects, hydrologic reconnection projects, shellfish and coral reef restoration projects. To date, the Program has implemented more than 1,700 habitat restoration projects in 37 states. It has restored more than 55,000 acres of habitat and opened 2,500 miles of rivers and streams.

The Program is housed within the NMFS Office of Habitat Conservation's Restoration Center and was authorized in the Magnuson-Stevens Fishery Conservation and Management Reauthorization Act of 2006. Prior guidelines for the Program were provided at 65 FR 16890, March 30, 2000, and then revised at 73 FR 55816, September 26, 2008. Since the guidelines were last updated in 2008, base funding for the Program has remained relatively level, with the exception of several specific initiatives such as the Coastal and Marine Habitat Restoration Grants funded by the American Recovery and Reinvestment Act of 2009 and the Open Rivers Initiative (2007-2010).

Program Guidelines

a. Purpose of These Guidelines

These guidelines provide information to the public and partnering organizations regarding the Program's scope and focus. The guidelines describe the broad range of the Program's activities and influence including, but not limited to, technical and financial assistance capabilities that are managed in a manner to most effectively advance the goals established under NMFS' core mandates. Previous published guidelines included more information on financial assistance mechanisms and procedures. These discussions have been removed from these updated guidelines in order to focus on the Program's goals, scope, and capabilities, rather than administrative process.

b. Program Overview

NMFS' primary goals under its core mandates include ensuring the productivity and sustainability of fisheries and recovering and conserving protected resources. Healthy ecosystems and the availability of habitat are critical to these resources and therefore restoring coastal, marine, and riverine habitat is an essential element of NMFS' strategy to achieve its primary goals. To support this strategy, the Program provides technical and financial assistance to identify, develop, implement, and evaluate community-driven habitat restoration projects that yield the greatest benefit to the resources under NMFS' jurisdiction. Program staff leads coordination efforts across NOAA and other Federal and non-Federal partners to identify shared habitat priorities and focus resource investments to increase the impact of habitat conservation and restoration actions. The Program's restoration specialists, including fish biologists, ecologists, and engineers, located throughout the country, provide comprehensive expertise to facilitate effective habitat restoration. To support project implementation through financial assistance, the Program primarily establishes cooperative agreement funding awards with non-Federal partners. Competitive solicitations are issued as Federal funding announcements on Grants.gov. Non-Federal partners may include non-governmental organizations, tribes, states, and local government agencies and communities.

Habitat restoration projects implemented through the Program are developed in partnership with the communities in which they are based and reflect the needs and interests of local stakeholders. As restoration is conducted using a collaborative, ecosystem approach, projects such as dam removal, floodplain reconnection, and coastal wetland restoration often result in multiple benefits beyond the Program's primary goals. These benefits may include increased coastal resiliency, improved infrastructure, enhanced public safety, increased recreational opportunities, and strengthened coastal economies. The Program also fosters natural resource stewardship and local community engagement by supporting outreach, education, or volunteer opportunities as restoration project components.

c. Program Activities and Priorities

The Program will continue to support projects featuring all aspects of coastal habitat restoration, conservation, and protection that recover threatened and endangered species listed under the Endangered Species Act, sustain or help rebuild fish stocks managed under the Magnuson-Stevens Fishery Conservation and Management Act, or benefit other coastal and marine species with a connection to NMFS management. Within this broad authority, the Program is focusing its efforts to more effectively achieve NMFS' species recovery and fisheries sustainability goals, as well as demonstrate the results and multiple benefits of the Program's investments. Focused and coordinated approaches are critical because funding for coastal habitat restoration remains insufficient to fully address the needs of all habitat-limited coastal and marine species. To help set priorities and inform strategic decisions on where and how the Program targets its efforts, Program staff coordinates across NOAA and develops key partnerships with other Federal agencies, tribes, states, counties, local communities, and other non-governmental organizations. This leadership and collaboration helps set shared priorities and goals, and increases the impact of the Program's coastal restoration funding by leveraging resources and coordinating investments from multiple habitat restoration and conservation organizations and programs involved in habitat conservation and restoration.

To execute the Program's targeted habitat restoration goals, the Program may focus its technical assistance and funding on specific geographic areas, habitats, restoration techniques, actions identified in protected species recovery plans or fishery management plans, or where NOAA and partner resources are aligned to yield a greater collective impact. The Program will provide restoration project funding to non-Federal partners through open, competitive solicitations announced through Federal Funding Opportunities (FFOs). The Program's targeted goals and priorities will be explicitly outlined within each FFO and applications will be evaluated on how well the proposed activity meets those priorities. Funding may be provided through cooperative agreements for restoration planning and feasibility studies, engineering and design, implementation and construction, and monitoring and evaluation efforts.

In addition to providing funds for restoration projects, the Program provides leadership and technical expertise to foster the development and implementation of habitat restoration actions that support the recovery of protected species and sustainability of fisheries. To most effectively meet these core mandate goals, Program staff proactively identifies restoration opportunities, coordinates with other entities to help drive investments towards the highest priorities, and develops solutions to overcome obstacles to restoration success. Program staff provides technical expertise to ensure that restoration partners have the necessary support to successfully carry out complex habitat restoration activities such as dam removals and large-scale hydrologic reconnection projects. The technical assistance that Program staff provides to restoration project partners includes guidance on project feasibility assessments, engineering and design, project implementation oversight, regulatory compliance, and monitoring planning. The Program also accelerates the delivery of resources and implementation of restoration by streamlining permitting and environmental compliance processes when possible through the development and use of programmatic approaches. These core technical and financial assistance capabilities enable the Program to efficiently support the implementation of other targeted habitat conservation and restoration initiatives within NOAA.

As the practice of habitat restoration has developed, the Program has contributed to its advancement through targeted implementation and effectiveness monitoring and technology transfer. Monitoring carried out by the Program has supported science-based decision making and led to improvements in the design and implementation of habitat restoration projects. To evaluate the effectiveness of restoration actions in a cost-effective way, the Program is establishing consistent processes for monitoring and evaluating the performance of individual and collective restoration actions. The Program collects and reports this information in a manner that will inform future projects and investments, and ultimately improve the performance of the Program. The Program also facilitates increased public access to monitoring and evaluation data by implementing NOAA's Data Sharing Policy for Grants and Cooperative Agreements issued in 2012 which requires that all NOAA grantees share data produced under NOAA grants and cooperative agreements. Program staff works with cooperative agreement recipients to develop a data sharing plan as part of their cooperative agreement award narrative.

d. Funding Sources, Mechanisms, and Eligible Participants

As described in the prior sections, providing financial assistance is a tool that the Program uses to accomplish habitat restoration, complemented by the Program's leadership, coordination, and technical assistance capabilities. Financial assistance is provided competitively through FFO announcements and awarded and managed following the Department of Commerce Grants and Cooperative Agreements Manual and 2 CFR part 200. The Program primarily establishes cooperative agreement awards with selected applicants based on a competitive, technical review process to maximize opportunities for public access to Program resources. In limited circumstances, contracts may also be awarded. All domestic applicants other than individuals may apply for financial assistance. Activities that constitute legally required mitigation or are required by federal, state, or local law or court order are not part of the Program.

e. Reporting

The Program uses a specific reporting format that has received Paperwork Reduction Act clearance. The progress report format assists recipients of Program funding in tracking their progress towards self-defined milestones and performance measures. Progress reports may also include monitoring and evaluation results. The Program-specific form also helps the Program populate a project tracking database, which supports agency-wide performance measure reporting and provides public information through the Restoration Atlas at www.habitat.noaa.gov/restoration/restorationatlas.

f. Regulatory Compliance

The Program assists its restoration partners and financial assistance recipients in completing their regulatory compliance responsibilities when possible, and may serve as lead agency for consultation and analysis under the National Environmental Policy Act, Endangered Species Act, National Historic Preservation Act, and other applicable federal laws and regulations. The Program takes a programmatic approach to regulatory compliance when available. A current list of programmatic compliance documents that may be used to fulfill regulatory compliance responsibilities can be found at http://www.habitat.noaa.gov/funding/applicantresources.html.

Dated: September 14, 2015.
Samuel D. Rauch III,
Deputy Assistant Administrator for Regulatory Programs, National Marine Fisheries Service.

[FR Doc. 2015-23503 Filed 9-17-15; 8:45 am]

BILLING CODE 3510-22-P